DEPARTMENT OF COMMERCE

International Trade Administration

[A-821-808; A-823-808]

Certain Cut-to-Length Carbon Steel Plate From the Russian Federation and Ukraine; Final Results of the Expedited Fourth Sunset Reviews of the Suspension Agreements

AGENCY: Enforcement and Compliance, International Trade Administration, Department of Commerce.

SUMMARY: The U.S. Department of Commerce (Commerce) finds that termination of the Agreement Suspending the Antidumping Investigation of Certain Cut-to-Length Carbon Steel Plate from the Russian Federation (Russia) and the Agreement Suspending the Antidumping Investigation of Certain Cut-to-Length Carbon Steel Plate from Ukraine (collectively, Suspension Agreements) and the respective suspended investigations would be likely to lead to continuation or recurrence of dumping. The magnitude of the dumping margins likely to prevail are indicated in the “Final Results of Reviews” section of this notice.

DATES: Applicable: March 8, 2021.

FOR FURTHER INFORMATION CONTACT: Sally C. Gannon or Rebecca Lee, Enforcement and Compliance, International Trade Administration, U.S. Department of Commerce, 1401 Constitution Avenue NW, Washington, DC 20230, telephone: (202) 482-0162 or (202) 482-6188, respectively.

SUPPLEMENTARY INFORMATION:

Background

On November 3, 2020, Commerce published the notice of initiation of these sunset reviews of the suspended antidumping duty investigations of certain cut-to-length carbon steel plate (CTL plate) from Russia and Ukraine, pursuant to section 751(c) of the Tariff Act of 1930, as amended (the Act).¹ Pursuant to 19 CFR 351.218(d)(1)(i), Commerce received timely and complete notices of intent to participate in these sunset reviews from SSAB Enterprises LLC (SSAB) on November 13, 2020,² from ArcelorMittal USA LLC (AMUSA) ³ and Nucor Corporation (Nucor) ⁴ on November 16, 2020, and from JSW Steel (USA) Inc. (JSW) on November 18, 2020 ⁵ (collectively, domestic interested parties). On November 30, 2020, Commerce received adequate substantive responses from Nucor, AMUSA, and SSAB within the deadline specified in 19 CFR 351.218(d)(1)(i).⁶ Commerce did not receive substantive responses from any respondent interested party for either sunset review. As a result, pursuant to section 751(c)(3)(B) of the Act and 19 CFR 351.218(e)(1)(ii)(C)(2), Commerce conducted expedited sunset reviews of these Suspension Agreements.

¹ See Initiation of Five-Year (Sunset) Reviews, 85 FR 69585 (November 3, 2020).

² See Letter from SSAB, “Notice of Intent to Participate in the Fourth Five-Year Review of the Antidumping Duty Order on Certain Cut-to-Length Carbon Steel Plate from Russia,” dated November 13, 2020; Letter from SSAB, “Notice of Intent to Participate in the Fourth Five-Year Review of the Antidumping Duty Order on Certain Cut-to-Length Carbon Steel Plate from Ukraine,” dated November 13, 2020.

³ See Letter from AMUSA, “Cut-to-Length Carbon Steel Plate from the Russian Federation—ArcelorMittal USA LLC's Notice of Intent to Participate,” dated November 16, 2020; Letter from AMUSA, “Cut-to-Length Carbon Steel Plate from Ukraine—ArcelorMittal USA LLC's Notice of Intent to Participate,” dated November 16, 2020.

⁴ See Letter from Nucor, “Cut-to-Length Carbon Steel Plate from the Russian Federation: Notice of Intent to Participate in Review,” dated November 16, 2020; Letter from Nucor, “Cut-to-Length Carbon Steel Plate from Ukraine: Notice of Intent to Participate in Review,” dated November 16, 2020.

⁵ See Letter from JSW, “Cut-to-Length Carbon Steel Plate from the Russian Federation: Notice of Intent to Participate in Review,” dated November 18, 2020; Letter from JSW, “Cut-to-Length Carbon Steel Plate from Ukraine: Notice of Intent to Participate in Review,” dated November 18, 2020.

⁶ See Letter from Nucor, AMUSA, and SSAB, “Certain Cut-to-Length Carbon Steel Plate from Ukraine: Domestic Interested Parties' Substantive Response to Notice of Initiation,” dated November 30, 2020; Letter from Nucor, AMUSA, and SSAB, “Certain Cut-to-Length Carbon Steel Plate from Russia: Domestic Interested Parties' Substantive Response to Notice of Initiation,” dated November 30, 2020.

Scope of Reviews

The products covered by these Suspension Agreements include hot-rolled iron and non-alloy steel universal mill plates (i.e., flat-rolled products rolled on four faces or in a closed box pass, of a width exceeding 150 mm but not exceeding 1250 mm and of a thickness of not less than 4 mm, not in coils and without patterns in relief), of rectangular shape, neither clad, plated nor coated with metal, whether or not painted, varnished, or coated with plastics or other nonmetallic substances; and certain iron and non-alloy steel flat-rolled products not in coils, of rectangular shape, hot-rolled, neither clad, plated, nor coated with metal, whether or not painted, varnished, or coated with plastics or other nonmetallic substances, 4.75 mm or more in thickness and of a width which exceeds 150 mm and measures at least twice the thickness. Included as subject merchandise in the Suspension Agreements are flat-rolled products of nonrectangular cross-section where such cross-section is achieved subsequent to the rolling process (i.e., products which have been “worked after rolling”) for example, products which have been beveled or rounded at the edges. This merchandise is currently classified in the Harmonized Tariff Schedule of the United States (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Although the HTS subheadings are provided for convenience and customs purposes, our written description of the scope of the Suspension Agreements is dispositive. Specifically excluded from the subject merchandise within the scope of these Suspension Agreements is grade X-70 plate.

Analysis of Comments Received

A complete discussion of all issues raised in these sunset reviews is provided in the respective accompanying Issues and Decision Memoranda.⁷ The issues discussed in the Issues and Decision Memoranda include the likelihood of continuation or recurrence of dumping and the magnitude of the dumping margins likely to prevail if the Suspension Agreements are terminated. The Issues and Decision Memoranda are public documents and are on file electronically via Enforcement and Compliance's Antidumping and Countervailing Duty Centralized Electronic Service System (ACCESS). ACCESS is available to registered users at https://access.trade.gov. In addition, complete versions of the respective Issues and Decision Memoranda can be accessed directly at https://enforcement.trade.gov/frn. The signed Issues and Decision Memoranda and the electronic versions of the Issues and Decision Memoranda are identical in content.

⁷ See Memorandum, “Issues and Decision Memorandum for the Expedited Fourth Sunset Review of the Agreement Suspending the Antidumping Duty Investigation of Certain-Cut-to-Length Carbon Steel Plate from Ukraine; Final Results,” dated concurrently with and hereby adopted by this notice; See Memorandum, “Issues and Decision Memorandum for the Expedited Fourth Sunset Review of the Agreement Suspending the Antidumping Duty Investigation of Certain-Cut-to-Length Carbon Steel Plate from the Russia Federation; Final Results,” dated concurrently with and hereby adopted by this notice (collectively, Issues and Decision Memoranda).

Final Results of Reviews

Pursuant to section 752(c) of the Act, Commerce determines that termination of the Suspension Agreements and suspended investigations of CTL plate from Russia and Ukraine would likely lead to continuation or recurrence of dumping at weighted-average margins up to 185.00 percent for Russia ⁸ and up to 237.91 percent for Ukraine.⁹

⁸ See Notice of Final Determination of Sales at Less Than Fair Value: Certain Cut-to-Length Carbon Steel Plate From the Russian Federation, 62 FR 61787, 61794 (November 19, 1997).

⁹ See Notice of Final Determination of Sales at Less Than Fair Value: Certain Cut-to-Length Carbon Steel Plate From Ukraine, 62 FR 61754, 61766 (November 19, 1997).

Notification Regarding Administrative Protective Orders

This notice also serves as the only reminder to parties subject to administrative protective orders (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing these results and notice in accordance with sections 751(c), 752(c), and 777(i)(1) of the Act and 19 CFR 351.218.

Dated: March 3, 2021.
Christian Marsh,
Acting Assistant Secretary for Enforcement and Compliance.

[FR Doc. 2021-04736 Filed 3-5-21; 8:45 am]

BILLING CODE 3510-DS-P